DEPARTMENT OF HEALTH AND HUMAN SERVICES

Administration for Community Living

Announcement of the Intent To Award a Single-Source Cooperative Agreement to the National Association of State Units on Aging and Disability

AGENCY: Administration for Community Living, HHS.

ACTION: Notice.

SUMMARY: The Administration for Community Living (ACL) announces the intent to award a single-source cooperative agreement in the amount of $220,000 to the National Association of State Units on Aging and Disability (NASUAD) to support and stimulate the expansion of work already under way by NASUAD to create a valid and reliable National Core Indicator (NCI) Survey for older adults and people with physical disabilities.

DATES: The award will be issued for a project period of September 30, 2014 through September 29, 2015.

FOR FURTHER INFORMATION CONTACT: Shawn Terrell, Center for Disability and Aging Policy, Administration for Community Living, 1 Massachusetts Avenue NW., Washington, DC 20001. Telephone: 202-357-3517; Email: Shawn.Terrell@acl.hhs.gov.

SUPPLEMENTARY INFORMATION: In 2009, NASUAD started to partner with National Association of State Directors of Developmental Disabilities Services (NASDDDS) and Human Services Research Institute (HSRI) to expand the NCI to include older adults and people with physical disabilities. As a result of the NASUAD/NASDDDS/HSRI partnership, the expanded tool, National Core Indicators—Aging and Disability (NCI-AD), is currently being piloted in 3 states. NASUAD is the lead partner for the NCI-AD project.

With this one-year of grant funding, through a cooperative agreement, NASUAD will be able to recruit additional state aging and disability agencies to participate in the National Core Indicators—Aging & Disability (NCI-AD) project and expand the project's technical assistance to the three states already participating in this project.

This program is authorized under Title IV of the Older Americans Act (OAA) (42 U.S.C. 3032), as amended by the Older Americans Act Amendments of 2006, Public Law 109-365 (Catalog of Federal Domestic Assistance 93.048, Title IV Discretionary Projects) as well as Title I, Subtitle E of the Developmental Disabilities Assistance and Bill of Rights Act of 2000 (42 U.S.C. 15081), Public Law 106-402 (Catalog of Federal Domestic Assistance 93.631, Developmental Disabilities Projects of National Significance).

Date: August 21, 2014.
Sharon Lewis,
Principal Deputy Administrator, Administration for Community Living.

[FR Doc. 2014-20370 Filed 8-26-14; 8:45 am]

BILLING CODE 4154-01-P